DEPARTMENT OF ENERGY

Federal Energy Regulatory Commission

[Docket Nos. RP09-844-000 and RP09-844-001]

Texas Gas Transmission, LLC; Notice of Request for Permission To Withdraw Tariff Filing

October 15, 2009.

Take notice that on October 9, 2009, Texas Gas Transmission, LLC (Texas Gas) filed to request for authority from the Commission to withdraw the proposed tariff sheets filed in the above-captioned dockets, without prejudice to Texas Gas re-filing at a later time. Texas Gas contends that no party will be harmed by the Commission permitting Texas Gas to withdraw its filings as the proposed tariff changes have not yet taken effect. Texas Gas also requests the authority to file the information required by the Commission in its order accepting and suspending the tariff filings, subject to conditions ¹ in upcoming certificate proceedings during the next six months.

¹ Texas Gas Transmission, LLC, 128 FERC ¶ 61,220 (2009).

Any person desiring to protest this filing must file in accordance with Rules 211 and 214 of the Commission's Rules of Practice and Procedure (18 CFR 85.211 and 385.214). Protests will be considered by the Commission in determining the appropriate action to be taken, but will not serve to make protestants parties to the proceeding. Such protests must be filed on or before 5 p.m. Eastern time on the comment date as indicated below. Anyone filing a protest must serve a copy of that document on the parties to the proceeding.

The Commission encourages electronic submission of protests in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filing in the above proceeding is accessible in the Commission's eLibrary system by clicking on the appropriate link in the above list. They are also available for review in the Commission's Public Reference Room in Washington, DC. There is an eSubscription link on the Web site that enables subscribers to receive e-mail notification when a document is added to a subscribed docket. For assistance with any FERC Online service, please e-mail FERCOnlineSupport@ferc.gov or call (866) 208-3676 (toll free). For TTY, call (202) 502-8659.

Comment Date: 5 p.m. Eastern Time on October 23, 2009.

Kimberly D. Bose,
Secretary.

[FR Doc. E9-25398 Filed 10-21-09; 8:45 am]

BILLING CODE 6717-01-P